DEPARTMENT OF TRANSPORTATION

Federal Aviation Administration

Notice of Availability of Draft Environmental Impact Statement and Draft General Conformity Determination; Hartsfield Atlanta International Airport, Atlanta, GA

SUMMARY: Pursuant to section 102(2)(C) of the National Environmental Policy Act (NEPA) of 1969, as amended, as implemented by the Council on Environmental Quality (40 CFR Parts 1500-1508), and the requirements of section 176 of the Clean Air Act Amendments (CAAA) of 1990, the Federal Aviation Administration (FAA) will file with the Environmental Protection Agency, and make available to other government and interested private parties, the Draft Environmental Impact Statement (DEIS) and the Draft General Conformity Determination for the proposed 9,000-foot Fifth runway and associated projects at Hartsfield Atlanta International Airport, Atlanta, Georgia. The DEIS and Draft Conformity Determination will be on file with the EPA and available to the public for review starting December 29, 2000 after 1 p.m. at locations listed under SUPPLEMENTARY INFORMATION. A Public Information Workshop and Public Hearing will be held on January 30, 2001; between the hours of 4:00 p.m. and 8:00 p.m. at the Georgia International Convention Center, 1902 Sullivan Road, College Park, Georgia. Written comments will be accepted by the FAA until February 26, 2001.

FOR FURTHER INFORMATION CONTACT: Ms. Donna M. Meyer, Environmental Program Specialist, Federal Aviation Administration, Atlanta Airports District Office, 1701 Columbia Avenue, Suite 2-260, College Park, Georgia 30337-2747, Phone (404) 305-7150.

SUPPLEMENTARY INFORMATION: The City of Atlanta Department of Aviation (DOA), owner and operator of the airport is proposing airside and landside improvements to the Hartsfield Atlanta International Airport. The DOA's proposed project consists of constructing and operating a full service air carrier runway 9,000 feet long by 150-feet wide, with a lateral separation from Runway 9R/27L of 4,200 feet, and shifted approximately 1,900 feet east of the previously environmentally approved 6,000-foot by 100-foot wide runway laterally separated by approximately 4,100 feet from Runway 9R/27L. Projects associated with the runway include two airfield bridges spanning across I-285, the relocation of local roadways, and land acquisition. The DEIS has examined the sponsor's proposed project and improvements along with other reasonable alternatives to the proposed project. The Federal Highway Administration (FHWA) is acting as a cooperating agency to the FAA in this DEIS.

A Public Hearing will be held by the FAA to afford interested parties the opportunity to provide their comments on the merits and findings of the DEIS and to consider the economic, social, and environmental effects of DOA's proposed development and its consistency with the goals and objectives of such urban planning as has been carried out by the community. The Public Hearing will be conducted in conjunction with an informal Information Workshop. During the Information workshop, participants will be able to view project related materials and speak with representatives of the FAA and the consulting team.

In addition, the public is invited to comment in one of four ways during the Information Workshop/Public Hearing: (1) Written comments may be submitted anytime during the Workshop/Hearing; (2) pre-addressed written comment forms may be mailed to the individual listed above; (3) private oral comments may be given to a certified court reporter anytime during the Workshop/Hearing; and, (4) oral comments may be made in front of the Hearing Officer who will be present to preside over and conduct the Public Hearing. The FAA encourages interested parties to review the DEIS and provide comments during the public comment period.

For the convenience of interested parties and the public, the DEIS may be reviewed at the following locations:

Fulton County Central Library, 1 Margaret Mitchell Square, Atlanta

Clayton County Headquarters Library, 865 Battlecreek Road, Jonesboro

South Fulton Branch, Atlanta-Fulton Public Library, 4055 Flat Shoals Road, Union City

Forest Park Public Library, 696 Main Street, Forest Park

Hartsfield Atlanta International Airport, Department of Aviation Offices—Atrium Suite 430, Atlanta

Federal Aviation Administration, Atlanta Airports District Office, Suite 2-260, 1701 Columbia Avenue, College Park

Issued in College Park, Georgia, December 22, 2000.
Rans D. Black,
Acting Manager, Atlanta Airports District Office.

[FR Doc. 01-716 Filed 1-9-01; 8:45 am]

BILLING CODE 4910-13-M